DEPARTMENT OF AGRICULTURE

Forest Service

Notice of Proposed New Fee Site Black River Harbor Day Use Area; Ottawa National Forest, Gogebic County, MI

AGENCY: Forest Service, USDA.

ACTION: Notice of new fee site.

SUMMARY: The Ottawa National Forest is proposing to establish a new recreation fee site for the use of the pavilion within the Black River Harbor Day Use Area. The proposed fee is $40 per day reservation. All reservations would be listed through the National Recreation Reservation Service. Funds collected would be used for the continued operation and maintenance of the Black River Harbor pavilion.

DATES: Effective Date: Fee implementation would begin in the Spring of 2008.

FOR FURTHER INFORMATION CONTACT: Information may be obtained by contacting Melanie Fullman or Mike Jacobson, Bessemer Ranger District, Ottawa National Forest, 500 N. Moore Street, Bessemer, Michigan, (906) 932-1330.

SUPPLEMENTARY INFORMATION: The Federal Lands Recreation Enhancement Act (Title VIII, Pub. L. 108-447) directed the Secretary of Agriculture to publish a six month advance notice in the Federal Register whenever new recreation fees are established. This new fee proposal will be reviewed by a Recreation Resource Advisory Committee prior to a final decision and implementation.

There has been a notable increase in the demand for reservations of the pavilion for group use. Increased uses include picnics, weddings, family reunions, schools and various clubs. A market analysis indicates that the $40/day is both reasonable and acceptable for this sort of unique recreation experience.

People wanting to rent the Black River Harbor pavilion would need to do so through the National Recreation Reservation Service, at http://www.reserveusa.com or by calling 1-887-444-6777. The National Recreation Reservation Service charges a $9 fee for reservations.

Dated: August 9, 2007.
Randal D. Charles,
Acting Forest Supervisor.

[FR Doc. 07-4032 Filed 8-16-07; 8:45 am]

BILLING CODE 3410-11-M